DEPARTMENT OF JUSTICE

Notice of Lodging of Consent Decree Pursuant to the Comprehensive Environmental Response Compensation and Liability Act (“CERCLA”)

Notice is hereby given that on December 3, 2003, a proposed Consent Decree (“Consent Decree”) in United States v. Island Chemical Company, et al., Civil Action No. 2003-193 was lodged with the United States District Court for the District of the Virgin Islands, Division of St. Criox.

In this action the United States sought the implementation of the remedy set forth in the Record of Decision issued August 13, 2002, and the recovery of costs incurred by the United States in response to releases and threatened releases of hazardous substances at the Site pursuant to sections 106, 107(a) and 113 of the Comprehensive Environmental Response, Compensation, and Recovery Act, as amended (“CERCLA”), 42 U.S.C. 9606, 9607(a) and 9613. The Consent Decree, which was lodged concurrently with the filing of the complaint, resolves the United States' claims under the Complaint, recovers $490,000 of unreimbursed past costs, plus future costs, and obligates the Settling Defendants to perform the Remedial Design/Remedial Action (“RD/RA”) at the Site valued at approximately $1.4 million with a contingency groundwater remedy estimated to cost an additional $1 million.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Island Chemical Company, et al., D.J. Ref. 90-11-2-954/2.

The Consent Decree may be examined at the Office of the United States Attorney, District of the Virgin Islands, P.O. Box 3239 Christiansted, St. Croix, U.S. Virgin Islands 00822, (contact Assistant United States Attorney Ernest A. Batenga) and at U.S. EPA Region II, 290 Broadway, New York, New York 10007-1866 (contact Assistant Regional Counsel Carol Berns). During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $41.50 (25 cents per page reproduction cost), payable to the U.S. Treasury.

Ronald Gluck,
Assistant Chief, Environmental, Enforcement Section, Environment and Natural Resources Division.

[FR Doc. 03-31154 Filed 12-17-03; 8:45 am]

BILLING CODE 4410-15-M